DEPARTMENT OF TRANSPORTATION

Office of the Secretary

Aircraft Accident Liability Insurance; Notice of Request for Renewal of a Currently Approved Information Collection

AGENCY: Office of the Secretary (OST), DOT.

ACTION: Notice.

SUMMARY: In accordance with the Paperwork Reduction Act of 1995 (44 U.S.C. 3501 et seq.), this notice announces that the Information Collection Request (ICR) abstracted below has been forwarded to the Office of Management and Budget (OMB) for renewal and comment. The ICR describes the nature of the information collection and its expected burden. The Federal Register Notice with a 60-day comment period soliciting comments on the following collection of information published on January 30, 2004 [FR Vol. 69, No. 20, Page 4556]. No comments were received.

DATES: Comments must be submitted on or before June 14, 2004. A comment to OMB is most effective if OMB receives it within 30 days of publication.

FOR FURTHER INFORMATION CONTACT: Delores King, Air Carrier Fitness Division (X-56), Office of Aviation Analysis, Office of the Secretary, U.S. Department of Transportation, 400 Seventh Street, SW., Washington, DC 20590, (202) 366-2343.

SUPPLEMENTARY INFORMATION: Title: Aircraft Accident Liability Insurance, 14 CFR Part 205.

OMB Control Number: 2106-0030.

Affected Public: U.S. and Foreign Air Carriers.

Annual Estimated Burden: 2,763 hours.

Abstract: 14 CFR Part 205 contains the minimum requirements for air carrier accident liability insurance to protect the public from losses and directs that certificates evidencing appropriate coverage must be filed with the Department.

ADDRESSES: Send comments to the Office of Information and Regulatory Affairs, Office of Management and Budget, 725-17th Street, NW., Washington, DC 20503, Attention OST Desk Officer.

Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, including the use of automated collection techniques of other forms of information technology.

Issued in Washington, DC, on May 7, 2004.
Michael A Robinson,
Information Collection Clearance Officer.

[FR Doc. 04-10996 Filed 5-13-04; 8:45 am]

BILLING CODE 4910-62-P